DEPARTMENT OF STATE

[Public Notice 9325]

Notice of Public Meeting

SUMMARY: The U.S. Department of State, Bureau of Oceans and International Environmental and Scientific Affairs (OES), Office of Marine Conservation announces that the Advisory Panel to the U.S. Section of the North Pacific Anadromous Fish Commission will meet on November 23, 2015.

DATES: The meeting will take place via teleconference on November 23rd, 2015 from 2 p.m. to 4 p.m. Eastern time.

Meeting Details: The teleconference call-in number is toll-free 877-336-1831, passcode 6472335, and will have a limited number of lines for members of the public to access from anywhere in the United States. Callers will hear instructions for using the passcode and joining the call after dialing the toll-free number noted. Members of the public wishing to participate in the teleconference must contact the OES officer in charge as noted in the FOR MORE INFORMATION section below no later than close of business on Friday, November 20th, 2015.

FOR FURTHER INFORMATION CONTACT: Elana Katz-Mink, Office of Marine Conservation, OES, Room 2758, U.S. Department of State, 2201 C Street NW., Washington, DC 20520. Telephone (202) 647-1073, fax (202) 736-7350, email address katz-minkeh@state.gov.

SUPPLEMENTARY INFORMATION: In accordance with the requirements of the Federal Advisory Committee Act, notice is given that the Advisory Panel to the U.S. Section of the North Pacific Anadromous Fish Commission (NPAFC) will meet on the date and time noted above. The panel consists of members from the states of Alaska and Washington who represent the broad range fishing and conservation interests in anadromous and ecologically related species in the North Pacific. Certain members also represent relevant state and regional authorities. The panel was established in 1992 to advise the U.S. Section of the NPAFC on research needs and priorities for anadromous species, such as salmon, and ecologically related species occurring in the high seas of the North Pacific Ocean. The upcoming Panel meeting will focus on three major topics: (1) Review of the agenda for the 2015 annual meeting of the NPAFC (May 11-15, 2015; Kobe, Japan); and (2) planning for the work of the Advisory Panel in 2016. Background material is available from the point of contact noted above and by visiting www.npafc.org.

Dated: October 14, 2015.
William Gibbons-Fly,
Director, Office of Marine Conservation, Department of State.

[FR Doc. 2015-27150 Filed 10-23-15; 8:45 am]

BILLING CODE 4710-09-P